NATIONAL LABOR RELATIONS BOARD

29 CFR Part 102

RIN 3142—AA12

Representation Case Procedures

AGENCY: National Labor Relations Board.

ACTION: Final rule; delay of effective date.

SUMMARY: On December 18, 2019, the National Labor Relations Board (Board) published a final rule amending its representation case procedures. The Board hereby amends that rule to change the effective date from April 16, 2020, to May 31, 2020. The purpose of this amendment is to facilitate the resolution of the legal challenges with respect to the rule.

DATES: The effective date of the final rule published at 84 FR 69524, December 18, 2019, is delayed from April 16, 2020, to May 31, 2020.

FOR FURTHER INFORMATION CONTACT: Roxanne L. Rothschild, Executive Secretary, National Labor Relations Board, 1015 Half St. SE, Washington, DC 20570-0001, (202) 273-1940 (this is not a toll-free number), 1-866-315-6572 (TTY/TDD).

SUPPLEMENTARY INFORMATION: On December 18, 2019, the National Labor Relations Board published a final rule modifying various aspects of its representation case procedures to permit parties additional time to comply with various pre-election requirements instituted in 2015, to clarify and reinstate some procedures that better ensure the opportunity for litigation and resolution of unit scope and voter eligibility issues prior to an election, and to make several other changes the Board deems to be appropriate policy choices that better balance the interest in the expeditious processing of questions of representation with the efficient, fair, and accurate resolution of questions of representation.

On March 18, 2020, the U.S. District Court for the District of Columbia requested that the Board consider postponing the effective date of the rule in connection with a pending proceeding concerning the rule. The Board has determined that postponing the effective date of the rule would facilitate the resolution of the legal challenges that have been filed with respect to the rule. Accordingly, the Board has decided to change the effective date of the rule from April 16, 2020, to May 31, 2020.

Dated: March 23, 2020.
Roxanne L. Rothschild,
Executive Secretary.

[FR Doc. 2020-06365 Filed 3-27-20; 8:45 am]

BILLING CODE 7545-01-P